DEPARTMENT OF HEALTH AND HUMAN SERVICES

Administration for Community Living

Agency Information Collection Activities; Proposed Collection; Comment Request; Older Americans Act, Title VI Grant Application

AGENCY: Administration for Community Living, HHS.

ACTION: Notice.

SUMMARY: The Administration for Community Living (ACL) is announcing an opportunity for the public to comment on the proposed collection of information listed above. Under the Paperwork Reduction Act of 1995 (PRA), Federal agencies are required to publish a notice in the Federal Register concerning each proposed collection of information, including each proposed extension of an existing collection of information, and to allow 60 days for public comment in response to the notice. This notice solicits comments on a proposed extension without change information collection and solicits comments on the information collection requirements related to the Application for Older Americans Act, Title VI Parts A/B and C Grants.

DATES: Comments on the collection of information must be submitted electronically by 11:59 p.m. (EST) or postmarked by June 7, 2022.

ADDRESSES: Submit electronic comments on the collection of information to: Jasmine Aplin. Submit written comments on the collection of information to the Administration for Community Living, Washington, DC 20201, Attention: Jasmine Aplin.

FOR FURTHER INFORMATION CONTACT: Jasmine Aplin, Administration for Community Living, Washington, DC 20201, jasmine.aplin@acl.hhs.gov or 202-795-7453.

SUPPLEMENTARY INFORMATION: Under the Paperwork Reduction Act, Federal agencies must obtain approval from the Office of Management and Budget (OMB) for each collection of information they conduct or sponsor. A Collection of information includes agency requests or requirements that members of the public submit reports, keep records, or provide information to a third party. The PRA requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) Whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including through the use of automated collection techniques when appropriate, and other forms of information technology.

ACL is responsible for administering the Title VI A/B (Nutrition and Supportive Service) and C (Caregiver) grants. The purpose of this data collection is to improve and standardize the format of the application. The instrument will collect data as prescribed by the Older Americans Act Section 612(a), 614(a) and 45 CFR 1326.19 related to the eligibility of Federally-recognized Tribes and Native Hawaiian organizations for grant funds under this program and their capacity to deliver services to elders.

The Application for Older Americans Act, Title VI A/B and C Grants collects information on the ability of federally-recognized American Indian, Alaskan Native and Native Hawaiian organizations to provide nutrition, supportive, and caregiver services to elders within their service area. Applicants are required to provide a description of their organization's service area, the number of eligible elders in their service area, and their ability to deliver services and sign assurances that the organization will comply with all applicable laws and regulations.

This is an extension of a currently approved information collection. The proposed data collection materials have been updated to better align with the requirements of the Older Americans Act and Federal regulations, as well as to improve data quality and grantee accountability. Furthermore, this grantee application will better line up with the Title VI Program Performance Report under 0985-0059. This data collection will also support ACL in tracking performance outcomes and efficiency measures with respect to the annual and long-term performance targets established in compliance with the Government Performance Results Modernization Act (GPRMA).

The proposed data collection tools may be found on the ACL website for review at https://www.acl.gov/about-acl/public-input.

Estimated Program Burden

Title VI funding is broken into three categories. Parts A and B are for nutritional and supportive programming, with Part A being restricted to American Indian and Alaska Native grantees, and Part B restricted to Native Hawaiian grantees. Part C is for caregiver programming. All Part C grantees must have Part A/B funding, but not all Part A/B grantees will have Part C programs. Therefore, there are likely to be 295 unique respondents, but only 250 will have to complete all three portions of the application. This application covers all three parts of Title VI.

ACL estimates the burden associated with this collection of information as follows:

Respondent/data collection activity | Number of respondents | Responses per respondent | Hours per response | Annual burden hours
Title VI Application Part A/B | 295 | 1 | 2.75 | 270.4
Title VI Application Part C | 250 | 1 | 1.5 | 125
Total |  |  | 4.25 | 395.4

The number of burden hours associated with the Title VI, Part C, data collection was calculated as 811.25. However, since this instrument is used only once every three years results in an annualized number of 270.4 hours. Similarly, the total hours associated with the Title VI, Part C, application is 375.

Dated: April 4, 2022.
Alison Barkoff,
Acting Administrator and Assistant Secretary for Aging.

[FR Doc. 2022-07507 Filed 4-7-22; 8:45 am]

BILLING CODE 4154-01-P